DEPARTMENT OF DEFENSE

Office of the Secretary

[Docket ID: DOD-2010-OS-0160]

Privacy Act of 1974; System of Records

AGENCY: Office of the Secretary of Defense, DoD.

ACTION: Notice to add a system of records.

SUMMARY: The Office of the Secretary of Defense proposes to add a system of records to its inventory of record systems subject to the Privacy Act of 1974 (5 U.S.C. 552a), as amended.

DATES: This proposed action would be effective without further notice on January 13, 2011 unless comments are received which result in a contrary determination.

ADDRESSES: You may submit comments, identified by docket number and/Regulatory Information Number (RIN) and title, by any of the following methods:

* Federal Rulemaking Portal: http://www.regulations.gov Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Chief, OSD/JS Privacy Office, Freedom of Information Directorate, Washington Headquarters Services, 1155 Defense Pentagon, Washington DC 20301-1155, or Ms. Cindy Allard at (703) 588-6830.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on December 2, 2010 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 2, 2010.
Morgan F. Park,
Alternate OSD Federal Register Liaison Officer, Department of Defense.

DWHS D03

System Name:

Washington Headquarters Services (WHS) Enterprise Safety Applications Management System (ESAMS).

System location:

Commander Navy Installations Command Transitional Hosting Center, 1968 Gilbert St. Norfolk, VA 23511-3318.

Categories of individuals covered by the system:

DoD Military and civilian personnel employed through Washington Headquarters Services (WHS) or one of the WHS-Serviced Organizations (Office of the Secretary of Defense, Joint Chiefs of Staff, Defense Advanced Research Projects Agency, Defense Threat Reduction Agency, Missile Defense Organization, Pentagon Force Protection Agency, Defense Prisoners of War/Missing Personnel Office, Uniformed Services University of the Health Sciences, National Defense University, DoD Inspector General, Office of Economics Adjustment, Defense Legal Services Agency, Defense Technology Security Administration, Defense Test Resource Management Center, Defense Security Cooperation Agency (DSCA) Headquarters, and the Defense Media Activity.

Categories of records in the system:

For all employees: name, Social Security Number (SSN), e-mail address, supervisor's name, supervisor's e-mail address, unit identification code (UIC), directorate, division, gender, training/certifications received, test scores.

For employees requiring duty physicals and/or whose duties require longitudinal monitoring and assessment: Occupational medical stressors, date of last physical and non-diagnostic information concerning health readiness/restrictive duty, respirator usage and fit test results, annual audiogram results, chemical and/or environmental exposures, and occupational injuries/illnesses.

For employees on whom an accident investigation or report is submitted: Name, Social Security Number (SSN), job title, agency/directorate/division, office location, case number, incident location, injury detail, Occupational Safety and Health Administration (OSHA) recordable incident/illness.

Authority for maintenance of the system:

29 CFR part 1904, Recording and Reporting Occupational Injuries and Illnesses; 29 CFR part 1910, Occupational Safety and Health Standards; 10 U.S.C. 113, Secretary of Defense; E.O. 12196, Occupational Safety and Health Programs for Federal Employees, as amended; DoD Instruction 6055.1, DoD Safety and Occupational Health (SOH) Program; DoD Instruction 6055.5, Occupational and Environmental Health (OEH); DoD Instruction 6055.7, Accident Investigation, Reporting, and Record Keeping; DoD Instruction 6055.12, DoD Hearing Conservation Program (HCP); and E.O. 9397 (SSN), as amended.

Purpose(s):

To ensure all individuals receive required health and safety, fire, and emergency management training courses necessary to perform assigned duties and comply with Federal law and DoD regulations.

To document and manage longitudinal requirements of physicals, respiratory and audiology tracking over the course of an employee's employment with Washington Headquarters Services.

To provide an initial documentation of workplace incidents and accidents.

Used as a management tool for statistical analysis, tracking, reporting, evaluating program effectiveness and conducting research.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To the Occupational Safety and Health Administration (OSHA) during the course of an on-site inspection.

The DoD `Blanket Routine Uses' that appear at the beginning of the Office of the Secretary of Defense's compilation of systems of records notices apply to this system.

Policies and practices for storing, retrieving, accessing, retaining, and disposing of records in the system:

Storage:

Electronic storage media.

Retrievability:

Retrieved by individual's name and Social Security Number (SSN).

Safeguards:

Access is role based with limited access to personally identifiable information. Access requires Common Access Card (CAC) on initial log-on but allows CAC access or password logon (if established) after initial use. The servers are located in a building that is locked during non-duty hours on a military installation with guards monitoring installation access 24 hours a day, 7 days a week.

Retention and disposal:

Employee training records are closed on an annual basis and disposed of when 5 years old.

Longitudinal Requirements are closed on an annual basis and disposed of when 5 years old.

Personnel Injury Files are closed on an annual basis and disposed of when 3 years old.

System manager(s) and address:

Chief, Safety and Environmental Management Branch, Washington Headquarters Services, 1155 Defense Pentagon, Washington DC 20301-1155.

Notification procedure:

Individuals seeking to determine whether information about themselves is contained in this system of records should address written inquiries to the Chief, Safety and Environmental Management Branch, Washington Headquarters Services, 1155 Defense Pentagon, Washington DC 20301-1155.

The request should contain individual's full name, Social Security Number (SSN), address, and should be signed.

Record access procedures:

Individuals seeking to access the information about themselves contained in this system of records not accessible through system interfaces should address written inquiries to the Office of the Secretary of Defense/Joint Staff Freedom of Information Act Requester Center, 1155 Defense Pentagon, Washington DC 20301-1155.

The request should contain the name and number of this system of records notice, the individual's full name, Social Security Number (SSN), address, and must be signed.

Contesting record procedures:

The Office of the Secretary of Defense rules for accessing records, and for contesting contents and appealing initial agency determinations are published in Office of the Secretary of Defense Administrative Instruction 81; 32 CFR part 311; or may be obtained from the system manager.

Record source categories:

Individual, personnel files, non-diagnostic extracts from medical records that address medical readiness/restrictions, and office files.

Exemptions claimed for the system:

None.

[FR Doc. 2010-31244 Filed 12-13-10; 8:45 am]

BILLING CODE 5001-06-P